DEPARTMENT OF AGRICULTURE

Commodity Credit Corporation

Farm Service Agency

Notice of Funds Availability (NOFA); Market Facilitation Program (MFP) Payments to Producers

AGENCY: Commodity Credit Corporation and Farm Service Agency, USDA.

ACTION: Notice.

SUMMARY: MFP provides payments to producers with commodities that have been significantly impacted by actions of foreign governments resulting in the loss of traditional exports. This NOFA announces the availability of MFP funds for eligible producers of shelled almonds and fresh sweet cherries and makes a correction to a previously issued NOFA published on August 30, 2018, with respect to MFP funds availability for hogs. On behalf of the Commodity Credit Corporation (CCC), the Farm Service Agency (FSA) administers MFP. MFP participants will receive an MFP payment, calculated based on the eligible production multiplied by the participant's share multiplied by the MFP payment rate.

DATES: Application period: September 24, 2018, through January 15, 2019.

FOR FURTHER INFORMATION CONTACT: Bradley Karmen, telephone: (202) 720-3175.

SUPPLEMENTARY INFORMATION:

Background

CCC published the MFP regulation, 7 CFR part 1409, on August 30, 2018 (83 FR 44173-44178), specifying the eligibility requirements, payment calculations, and application procedures for MFP. CCC also published a NOFA on August 30, 2018 (83 FR 44257-44258) that announced funds available for hogs and other commodities. MFP provides assistance to producers with commodities that have been significantly impacted by actions of foreign governments resulting in the loss of traditional exports. This NOFA announces the availability of initial MFP payments for 2018 for shelled almonds and fresh sweet cherries.

Correction

The NOFA announcing funds availability for hogs specifies that the date for which the owner reports the number of head of live hogs is August 1, 2018. It has come to our attention that the inventory on August 1 may not be representative of the operation's inventory. For example, a producer may have sold a barnful of hogs a few days before August 1, resulting in reduced inventory and then purchased feeder pigs a few days later. To provide an option for those owners to participate in MFP, this NOFA is revising the requirement. Producers may select any day from July 15 through August 15, 2018, as the date for which the ownership is reported.

Application Process

Each eligible producer applies for MFP on an application form. A producer applies for MFP once. MFP payments will not be issued until a producer certifies production, as described below.

Payment Rates

The MFP payment rates will be as determined by CCC.

The MFP payment rates and units of measure that will be in effect beginning at the start of the application period, are listed in the following table.

Commodity | Unit | Rate ($/unit)
Shelled Almonds | pound | $0.03
Fresh Sweet Cherries | pound | 0.16

The initial payment rate will apply to the first 50 percent of the producer's total production of the selected commodity. On or about December 3, 2018, CCC may announce a second payment rate, if applicable, that will apply to the remaining 50 percent of the producer's production for the selected commodity.

MFP payment at either the initial payment rate or at a second payment rate will be made after a producer harvests 100 percent of the crop and certifies the amount of production.

The actual production used to calculate an MFP payment under this NOFA is 2018 production in which the applicant had an ownership share. Specifically, required production information is as follows:

• Harvested production for the 2018 crop year;

• An ownership share for a crop will be as reported to FSA on the acreage report, form FSA-578, “Report of Acreage.”

Production Evidence

On the application, the producer will certify the amount of production and note the source of production evidence. If requested, the producer must provide supporting documentation to CCC to determine the producer's ownership share and the amount of production.

If supporting documentation is required for the amount of actual production and for ownership share, it needs to be records that substantiate the reported amounts. The participant's production for the commodity is based on production records. Examples of supporting documentation include evidence provided by the participant that is used to substantiate the amount of production reported, including copies of receipts, ledgers of income, income statements of deposit slips, register tapes, invoices for custom harvesting, and records to verify production costs, contemporaneous measurements, truck scale tickets, or contemporaneous diaries that are determined acceptable by the FSA county committee.

Payment Limitation

For MFP payments, there will be a single combined $125,000 per person or legal entity payment limitation for shelled almonds and fresh sweet cherries.

Eligible Crops

To be eligible to receive an MFP payment for a crop, the acreage of the crop must have been reported on FSA-578 and amount of production of shelled almonds or fresh sweet cherries must have been harvested and entered on the application. Sweet cherries intended for process market or juice are not eligible for MFP. The quantity of production for sweet cherries is on a “pack-out” basis. The quantity of production for shelled almonds will be based on the total eligible kernels or such similar term as edible meat weight.

Paperwork Reduction Act Requirements

This NOFA does not require changes to the information collection request currently approved by OMB control number 0560-0292. However, FSA has requested public comments through October 29, 2018, on the information collection requirements as specified in the NOFA published on August 30, 2018 (83 FR 44257-44258).

Environmental Review

The environmental impacts for MFP have been considered in a manner consistent with the provisions of the National Environmental Policy Act (NEPA, 42 U.S.C. 4321-4347), the regulations of the Council on Environmental Quality (40 CFR parts 1500-1508), and the FSA regulation for compliance with NEPA (7 CFR part 799).

As stated in the MFP final rule, the implementation of MFP and the participation in MFP do not constitute major Federal actions that would significantly affect the quality of the human environment, individually or cumulatively. The final rule served as documentation of the programmatic environmental compliance decision for this federal program; therefore, CCC will not prepare additional environmental compliance documentation for this NOFA.

Federal Assistance Programs

The title and number of the Federal assistance programs, as found in the Catalog of Federal Domestic Assistance, to which this NOFA applies is:

10.123 Market Facilitation Program.

Steven Peterson,
Acting Administrator, Farm Service Agency.
Robert Stephenson,
Executive Vice President, Commodity Credit Corporation.

[FR Doc. 2018-20773 Filed 9-21-18; 8:45 am]

BILLING CODE 3410-05-P